DEPARTMENT OF ENERGY

Federal Energy Regulatory Commission

[Project No. 13314-001]

Corral Creek South Hydro, LLC; Notice of Preliminary Permit Application Accepted for Filing and Soliciting Comments, Motions To Intervene, and Competing Applications

On April 3, 2012, Corral Creek South Hydro, LLC filed an application for a preliminary permit, pursuant to section 4(f) of the Federal Power Act (FPA), proposing to study the feasibility of the Corral Creek South Pumped Storage Project (project) to be located near Twin Falls in Twin Falls County, Idaho. The sole purpose of a preliminary permit, if issued, is to grant the permit holder priority to file a license application during the permit term. A preliminary permit does not authorize the permit holder to perform any land-disturbing activities or otherwise enter upon lands or waters owned by others without the owners' express permission.

The Commission issued a notice on May 11, 2012, accepting the application and soliciting comments, motions to intervene, and competing applications within a 60-day period. On July 10, 2012, the U.S. Department of the Interior filed a comment letter with the Commission stating the Shoshone-Paiute Tribe was not identified in the preliminary permit application as an Indian tribe that may be affected by the project (section 4.32(a)(2)). This notice is extending to the Shoshone-Paiute Tribe a 30-day period for filing comments, motions to intervene, and competing applications.

The proposed project would consist of: (1) A 180-foot-high, 8,400-foot-long upper earthen dam; (2) an upper reservoir with surface area of 118 acres, storage capacity of 9,120 acre-feet, and maximum pool elevation of 6,620 feet mean sea level (msl); (3) a 200-foot-high, 4,140-foot-long lower earthen dam; (4) a lower reservoir with surface area of 113 acres, storage capacity of 10,880 acre-feet, and maximum pool elevation of 5,500 feet msl; (5) a 30-foot-diameter, 4,710-foot-long steel penstock; (6) a powerhouse containing 4 pump/turbine units with a total installed capacity of 1,100 megawatts; (7) a 10.6-mile-long, 500-kilovolt transmission line; and (8) appurtenant facilities. The estimated annual generation of the project would be 3,212 gigawatt-hours.

Applicant Contact: Mr. Brent L. Smith, COO, Symbiotics LLC, 811 SW Naito Parkway Ste. 120, Portland, OR 97204; phone: (503) 235-3424.

FERC Contact: Kelly Wolcott (202) 502-6480, or by email at kelly.wolcott@ferc.gov.

Deadline for filing comments, motions to intervene, competing applications (without notices of intent), or notices of intent to file competing applications: 30 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13314-001) in the docket number field to access the document. For assistance, contact FERC Online Support.

Dated: November 8, 2012.
Kimberly D. Bose,
Secretary.

[FR Doc. 2012-27732 Filed 11-14-12; 8:45 am]

BILLING CODE 6717-01-P